DEPARTMENT OF ENERGY

Blue Ribbon Commission on America's Nuclear Future

AGENCY: Department of Energy, Office of Nuclear Energy.

ACTION: Notice of open meeting.

SUMMARY: This notice announces an open meeting of the Blue Ribbon Commission on America's Nuclear Future (the Commission). The Commission was organized pursuant to the Federal Advisory Committee Act (Pub. L. 92-463, 86 Stat. 770) (the Act). This notice is provided in accordance with the Act.

DATES: Friday, January 28, 2011, 8:30 a.m.-1:15 p.m. MST.

ADDRESSES: Hyatt Regency Albuquerque, 330 Tijeras NW., Albuquerque, New Mexico 87102, (505) 842-1234.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information may also be available at http://www.brc.gov.

SUPPLEMENTARY INFORMATION: Background: The President directed that the Blue Ribbon Commission on America's Nuclear Future (the Commission) be established to conduct a comprehensive review of policies for managing the back end of the nuclear fuel cycle. The Commission will provide advice and make recommendations on issues including alternatives for the storage, processing, and disposal of civilian and defense spent nuclear fuel and nuclear waste.

The Commission is scheduled to submit a draft report to the Secretary of Energy by July 2011, and a final report by January 2012.

Purpose of the Meeting: The meeting will provide the Commission with a range of local and regional perspectives from a wide variety of individuals and organizations.

Tentative Agenda: The meeting on January 28th will begin at 8:30 a.m. MST, at the Hyatt Regency Albuquerque. The Commission will hear presentations and statements from various stakeholder groups, and ask questions of the presenters, to provide additional information for Commission consideration. The meeting on January 28th is expected to conclude with public statements starting at approximately 12:15 p.m. MST. The meeting will end by 1:15 p.m.

Public Participation: Individuals and representatives of organizations who would like to offer comments and suggestions may do so at the end of the meeting on January 28, 2011. Approximately one hour will be reserved for public comments. Time allotted per speaker will depend on the number who wish to speak but will not exceed 5 minutes. The Designated Federal Officer is empowered to conduct the meeting in a fashion that will facilitate the orderly conduct of business. Those wishing to speak should register to do so beginning at 8 a.m. MST on January 28, 2011, at the Hyatt Regency Albuquerque. Registration to speak will close at 11 a.m. MST, January 28, 2011.

Those not able to attend the meeting or having insufficient time to address the committee are invited to send a written statement to Timothy A. Frazier, U.S. Department of Energy, 1000 Independence Avenue, SW., Washington DC 20585, e-mail to CommissionDFO@nuclear.energy.gov, or post comments on the Commission Web site at http://www.brc.gov.

Additionally, the meeting will be available via live webcast. The link will be available at http://www.brc.gov.

Minutes: The minutes of the meeting will be available at http://www.brc.gov or by contacting Mr. Frazier. He may be reached at the postal address or e-mail address above.

Issued in Washington, DC, on January 5, 2011.
LaTanya R. Butler,
Acting Deputy Committee Management Officer.

[FR Doc. 2011-351 Filed 1-10-11; 8:45 am]

BILLING CODE 6450-01-P